DEPARTMENT OF THE INTERIOR

Office of the Secretary

[22XD4523WS DWSN00000.000000 DS62200000 DP.62206; OMB Control Number OMB Control Number 1090-0009]

Agency Information Collection Activities; Donor Certification Form

AGENCY: Office of the Secretary, Office of Financial Management, Interior.

ACTION: Notice of information collection; request for comment.

SUMMARY: In accordance with the Paperwork Reduction Act of 1995 (PRA, 44 U.S.C. 3501 et seq.), the Office of Financial Management, Office of the Secretary, Department of the Interior are proposing to renew an information collection.

DATES: Interested persons are invited to submit comments on or before December 29, 2021.

ADDRESSES: Written comments and recommendations for the proposed information collection should be sent within 30 days of publication of this notice to www.reginfo.gov/public/do/PRAMain. Find this particular information collection by selecting “Currently under 30-day Review—Open for Public Comments” or by using the search function. Please provide a copy of your comments to Paul Batlan, Office of Financial Management, 1849 C St. NW, MS 5530 MIB, Washington, DC 20240, or via email at Paul_Batlan@ios.doi.gov, or by phone to (202) 208-4826. Please reference OMB Control Number 1090-0009 in the subject line of your comments.

FOR FURTHER INFORMATION CONTACT: To request additional information about this ICR, contact Paul Batlan, Office of Financial Management, 1849 C St. NW, MS 5530 MIB, Washington, DC 20240, or via email at Paul_Batlan@ios.doi.gov, or by telephone at 202-208-4826. Individuals who are hearing or speech impaired may call the Federal Relay Service at 1-800-877-8339 for TTY assistance. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 28, 2021 (86 FR 34036). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This notice identifies an information collection activity that the Office of Financial Management has submitted to OMB for approval for the Department and its Bureaus and Offices to continue to collect information from proposed donors relative to their relationship(s) with the Department. The Department and its individual Bureaus and Offices have gift acceptance authorities. In support of the variety of donation authorities in the Department and increasing numbers of donations, in accordance with the Department of the Interior Donations Policy 374 DM 6, those proposing to donate gifts valued at $25,000 or more must provide information regarding their relationship with the Department. The purpose of this policy is to ensure that the acceptance of a gift does not create legal or ethical issues for the Department, its Bureaus and Offices, or potential donors. The information will be gathered through the use of a form that collects information relevant to the acceptability of the proposed donation in conformance with the Department's donations policy. The Donor Certification form (DI-3680) is completed and certified by the prospective donor then submitted to the Department or its Bureau or Office for review. Having the donor certify their interactions with the Department gives the staff vetting the proposed donation basic information to be verified, resulting in a more efficient and timely donation review process.

Title of Collection: Donor Certification Form.

OMB Control Number: 1090-0009.

Form Number: DI-3680.

Type of Review: Extension of a currently approved collection.

Respondents/Affected Public: Individuals or households, Businesses, Not-for-profit institutions, Tribal governments.

Total Estimated Number of Annual Respondents: 250.

Total Estimated Number of Annual Responses: 250.

Estimated Completion Time per Response: 20 minutes.

Total Estimated Number of Annual Burden Hours: 83 hours.

Respondent's Obligation: Voluntary.

Frequency of Collection: Once per prospective donor per fiscal year.

Total Estimated Annual Nonhour Burden Cost: None.

An agency may not conduct or sponsor and a person is not required to respond to a collection of information unless it displays a currently valid OMB control number.

The authority for this action is the Paperwork Reduction Act of 1995 (44 U.S.C. 3501 et seq.).

Tonya R. Johnson,
Deputy Chief Financial Officer and Director, Office of Financial Management.

[FR Doc. 2021-25929 Filed 11-26-21; 8:45 am]

BILLING CODE 4334-63-P